DEPARTMENT OF HEALTH AND HUMAN SERVICES

Centers for Disease Control and Prevention

Notice of Award of a Single-Source Cooperative Agreement To Fund the United Nations Children's Fund

AGENCY: Centers for Disease Control and Prevention (CDC), Department of Health and Human Services (HHS).

ACTION: Notice.

SUMMARY: The Centers for Disease Control and Prevention (CDC), located within the Department of Health and Human Services (HHS), announces the award of approximately $36,000,000 for Year 1 funding to the United Nations Children's Fund (UNICEF). The award will provide support and vaccines for supplemental immunization activities (SIAs) as well as support towards strengthening of routine immunization delivery systems and capacities in developing countries to achieve global targets for vaccine-preventable disease (VPD) eradication, elimination, and reduction. Funding amounts for years 2-5 will be set at continuation.

DATES: The period for this award will be 7/1/2023 through 6/30/2028.

FOR FURTHER INFORMATION CONTACT: Mary A. Mulholland, Center for Global Health, Global Immunization Division, Centers for Disease Control and Prevention, 1600 Clifton Rd. NE, Atlanta, GA 30333, Telephone: 404-553-7371, Email: mmulholland@cdc.gov.

SUPPLEMENTARY INFORMATION: The single-source award will support UNICEF in collaboration with partners to sustain and strengthen global, regional and national immunization program capacity needed to achieve the globally agreed-upon goals of the Immunization Agenda 2030 (IA2030), including polio eradication, elimination targets for measles, rubella and neonatal tetanus, and national and subnational vaccination targets; achieve the 2030 Sustainable Development Goal (SDG) to end vaccine-preventable deaths among children under 5 years of age; reduce chronic disease and cancer deaths from VPDs; and prevent, detect and respond to VPD outbreaks.

UNICEF is in a unique position to conduct this work, as it has a unique role in the global immunization partnership as the world's largest purchaser of childhood vaccines and has the primary responsibility for providing countries with access to high-quality, affordable vaccines through their procurement systems and distribution networks. UNICEF has additional roles, including a global mandate to lead on social mobilization, community engagement, and other health communication activities. This agreement will expand on collaborative work to detect and respond to vaccine hesitance and threats to resilience of demand for vaccines that contribute to the gap between current global achievements and global targets.

Summary of the Award

Recipient: United Nations Children's Fund (UNICEF).

Purpose of the Award: The purpose of this award is to support UNICEF's efforts to support polio eradication, maternal and neonatal tetanus elimination, and regional measles and rubella elimination; planning and implementation of, and demand for, supplemental immunization campaigns; and strengthening of immunization systems and capacity in developing countries, in line with CDC's Global Immunization Strategic Framework (GISF.)

Amount of Award: The approximate year 1 funding amount will be $36,000,000 in Federal Fiscal Year (FYY) 2023 funds, subject to the availability of funds. Funding amounts for years 2-5 will be set at continuation.

Authority: This program is authorized under Section 307 of the PHS Act (42 U.S.C. 242); section 317(k)(1) and (2) of the PHS Act (42 U.S.C. 247b(k)(1) and (2).

Period of Performance: 7/1/2023 through 6/30/2028.

Dated: January 6, 2023.
Terrance Perry,
Chief Grants Management Officer, Centers for Disease Control and Prevention.

[FR Doc. 2023-00387 Filed 1-10-23; 8:45 am]

BILLING CODE 4163-18-P